FEDERAL RESERVE SYSTEM

Agency Information Collection Activities: Announcement of Board Approval Under Delegated Authority and Submission to OMB

AGENCY: Board of Governors of the Federal Reserve System.

SUMMARY: Notice is hereby given of the final approval of proposed information collections by the Board of Governors of the Federal Reserve System (Board) under OMB delegated authority. Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Acting Clearance Officer—Nuha Elmaghrabi—Office of the Chief Data Officer, Board of Governors of the Federal Reserve System, Washington, DC 20551 (202) 452-3829. Telecommunications Device for the Deaf (TDD) users may contact (202) 263-4869, Board of Governors of the Federal Reserve System, Washington, DC 20551.

OMB Desk Officer—Shagufta Ahmed—Office of Information and Regulatory Affairs, Office of Management and Budget, New Executive Office Building, Room 10235, 725 17th Street NW.,Washington, DC 20503.

Final approval under OMB delegated authority of the implementation of the following report:

Collection title: Application for Membership for the Community Advisory Council.

Agency form number: FR 1401.

OMB control number: 7100-to be assigned.

Frequency: Annual.

Reporters: Persons seeking to be considered for Community Advisory Council (CAC) membership.

Estimated annual reporting hours: 1,100 hours.

Estimated average hours per response: 1 hour.

Estimated number of respondents: 1,100.

General description of information collection: The CAC Application is required to obtain a benefit and is a collection of information from persons seeking to be considered for membership on the CAC. It is authorized pursuant to the Federal Reserve's general authority to establish the CAC, which is derived from sections 2A and 10 of the Federal Reserve Act (12 U.S.C. 225a and 244).

Information provided on the Application for Membership will be kept confidential under exemption (b)(6) of the Freedom of Information Act (FOIA) to the extent that the disclosure of information “would constitute a clearly unwarranted invasion of personal privacy.” (5 U.S.C. 552(b)(6)).

Abstract: The CAC was established to provide information, advice, and recommendations to the Board on policy matters and issues affecting consumers and communities. The Application for Membership would be used to obtain information about the experience and qualification of persons seeking to be considered for CAC membership. The Application for Membership would collect a candidate's contact information, current employment, areas of expertise, a resume, which typically includes information about employment history, education, and training, and a statement explaining why they are interested in serving on the CAC and what they believe are their primary qualifications. Candidates could voluntarily elect to provide additional information to support their application, such as copies of publications or letters of recommendation.

Current Actions: On November 25, 2015 the Federal Reserve published a notice in the Federal Register (80 FR 73765) requesting public comment for 60 days on the implementation of the Application for Membership for the Community Advisory Council. The comment period for this notice expired on January 25, 2016. The Federal Reserve did not receive any comments. The Application will be implemented as proposed.

Board of Governors of the Federal Reserve System, March 1, 2016.
Robert deV. Frierson,
Secretary of the Board.

[FR Doc. 2016-04818 Filed 3-3-16; 8:45 am]

BILLING CODE 6210-01-P